DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. U.S. Patent No. 5,264,722 entitled “Nanochannel Glass Matrix Used in Making Mesoscopic Structures”, Navy Case No. 74,224 and U.S. Patent 6,185,961 entitled “Nanopost Arrays and Process for Making Same”, Navy Case No. 78,923.

ADDRESSES: Requests for copies of the patents cited should be directed to the Naval Research Laboratory, Code 1004, 4555 Overlook Ave, SW, Washington, DC 20375-5320, and must include the Navy Case number.

FOR FURTHER INFORMATION CONTACT: Catherine M. Cotell, Ph.D., Head, Technology Transfer Office, NRL Code 1004, 4555 Overlook Ave, SW, Washington, DC 20375-5320, telephone (202) 767-7230. Due to temporary U.S. Postal Service delays, please fax (202) 404-7920, E-Mail: cotell@nrl.navy.mil or use courier delivery to expedite response.

(Authority: 35 U.S.C. 207, 37 CFR Part 404)
Dated: January 15, 2003.
R.E. Vincent II,
Lieutenant Commander, Judge Advocate General's Corps, U.S. Navy, Federal Register Liaison Officer.

[FR Doc. 03-1370 Filed 1-21-03; 8:45 am]

BILLING CODE 3810-FF-P